FEDERAL MINE SAFETY AND HEALTH REVIEW COMMISSION

Sunshine Act Notice

TIME AND DATE: 10:00 a.m., Thursday, December 12, 2019.

PLACE: The Richard V. Backley Hearing Room, Room 511N, 1331 Pennsylvania Avenue NW, Washington, DC 20004 (enter from F Street entrance).

STATUS: Open.

MATTERS TO BE CONSIDERED: The Commission will consider and act upon the following in open session: Secretary of Labor v. The Monongalia County Coal Company, Docket Nos. WEVA 2015-509 et al. (Issues include whether the Judge erred in denying the Secretary of Labor the opportunity to present evidence of prior violations to support his allegation that repeated flagrant violations had occurred.).

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

PHONE NUMBER FOR LISTENING TO MEETING: 1-(866) 236-7472

Passcode: 678-100.

Authority: 5 U.S.C. 552b.

Dated: November 4, 2019.
Sarah L. Stewart,
Deputy General Counsel.

[FR Doc. 2019-24344 Filed 11-4-19; 4:15 pm]

BILLING CODE 6735-01-P